DEPARTMENT OF TRANSPORTATION

Surface Transportation Board

[STB Finance Docket No. 33947]

Wisconsin Great Northern Railroad, Inc.—Operation Exemption—State of Wisconsin and Washburn County Transit Commission

Wisconsin Great Northern Railroad, Inc. (WGNR), a noncarrier, has filed a verified notice of exemption (notice) under 49 CFR 1150.31 to operate a 19.48-mile rail line (line) in Washburn County, WI, owned by the State of Wisconsin and the Washburn County Transit Commission. The line extends between milepost 80.8, at or near Spooner, and milepost 96.0, at a point of connection with Wisconsin Central, Ltd (WC), at Hayward Junction, including approximately .8 miles of incidental trackage rights over WC's line between milepost 95.2 and milepost 96.0.¹

¹ The line is a continuous rail line consisting of two segments: (1) Between milepost 80.8, at or near Spooner, and milepost 87.6, at or near Trego, a distance of 6.8 miles; and (2) between milepost 83.32, at or near Trego, and milepost 96.0, at Hayward Junction, a distance of 12.68 miles. WGNR currently provides rail passenger service over the line.

The transaction is expected to be consummated no earlier than the October 20, 2000 effective date of the exemption.

If the notice contains false or misleading information, the exemption is void ab initio. Petitions to reopen the proceeding to revoke the exemption under 49 U.S.C. 10502(d) may be filed at any time. The filing of a petition to reopen will not automatically stay the transaction.

An original and 10 copies of all pleadings, referring to STB Finance Docket No. 33947, must be filed with the Surface Transportation Board, Office of the Secretary, Case Control Unit, 1925 K Street, NW., Washington, DC 20423-0001. In addition, a copy of each pleading must be served on Thomas F. McFarland, Jr., Esq., McFarland & Herman, 20 North Wacker Drive, Suite 1330, Chicago, IL 60606-2902.

Board decisions and notices are available on our website at “WWW.STB.DOT.GOV.”

Decided: October 19, 2000.
By the Board, David M. Konschnik, Director, Office of Proceedings.
Vernon A. Williams,
Secretary.

[FR Doc. 00-27560 Filed 10-26-00; 8:45 am]

BILLING CODE 4915-00-P